DEPARTMENT OF STATE

[Public Notice: 11625]

Notice of Public Meeting in Preparation for International Maritime Organization HTW 8 Meeting

The Department of State will conduct a public meeting at 10:00 a.m. on Wednesday, February 2, 2022, by way of teleconference. Members of the public may participate up to the capacity of the teleconference phone line, which can handle 500 participants. To RSVP, participants should contact the meeting coordinator, Mr. Charles Bright, by email at Charles.J.Bright@uscg.mil. To access the teleconference line, participants should call (202) 475-4000 and use Participant Code: 877 239 87#.

The primary purpose of the meeting is to prepare for the eighth session of the International Maritime Organization's (IMO) Sub-Committee on Human Element, Training and Watchkeeping (HTW 8) to be held remotely from Monday, February 7, 2022, to Friday, February 11, 2022.

The agenda items to be considered at the public meeting mirror those to be considered at HTW 8, and include:

—Adoption of the agenda

—Decisions of other IMO bodies

—Validated model training courses

—Role of the human element

—Reports on unlawful practices associated with certificates of competency

—Implementation of the Standards of Training, Certification and Watchkeeping (STCW) Convention

—Development of amendments to the Revised guidelines for the development, review and validation of model courses (MSC-MEPC.2/Circ.15/Rev.1)

—Comprehensive review of the 1995 STCW-F Convention

—Development of amendments to the STCW Convention and Code for the use of electronic certificates and documents of seafarers

—Development of measures to ensure quality of onboard training as part of the mandatory seagoing service required by the STCW Convention

—Development of measures to facilitate mandatory seagoing service required under the STCW Convention

—Development of training provisions for seafarers related to the Ballast Water Management (BWM) Convention

—Biennial status report and provisional agenda for HTW 9

—Election of Chair and Vice-Chair for 2023

—Any other business

—Report to the Maritime Safety Committee

Please note: The IMO may, on short notice, adjust the HTW 8 agenda to accommodate the constraints associated with the virtual meeting format. Any changes to the agenda will be reported to those who RSVP and those in attendance at the meeting.

Those who plan to participate may contact the meeting coordinator, Mr. Charles Bright, by email at Charles.J.Bright@uscg.mil, by phone at (202) 372-1023, or in writing at 2703 Martin Luther King Jr. Ave. SE Stop 7509, Washington, DC 20593-7509. Any requests for reasonable accommodation must be made at that time. Requests made after January 26, 2022, will be considered but might not be possible to fulfill.

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2022-00601 Filed 1-12-22; 8:45 am]

BILLING CODE 4710-09-P